DEPARTMENT OF THE INTERIOR

Fish and Wildlife Service

[FWS-R4-ES-2016-N056; 40120-1112-0000-F2]

Receipt of Applications for Endangered Species Permits

AGENCY: Fish and Wildlife Service, Interior.

ACTION: Notice of availability.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given in ADDRESSES by May 2, 2016.

ADDRESSES: Documents and other information submitted with the applications are available for review, subject to the requirements of the Privacy Act and Freedom of Information Act, by any party who submits a written request for a copy of such documents to the following office within 30 days of the date of publication of this notice: U.S. Fish and Wildlife Service, Ecological Services, 1875 Century Boulevard, Suite 200, Atlanta, GA 30345 (Attn: James Gruhala, Permit Coordinator).

FOR FURTHER INFORMATION CONTACT: James Gruhala, 10(a)(1)(A) Permit Coordinator, telephone 404-679-7097; facsimile 404-679-7081.

SUPPLEMENTARY INFORMATION: The public is invited to comment on the following applications for permits to conduct certain activities with endangered and threatened species under section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES) or send them via electronic mail (email) to permitsR4ES@fws.gov. Please include your name and return address in your email message. If you do not receive a confirmation from the Fish and Wildlife Service that we have received your email message, contact us directly at the telephone number in FOR FURTHER INFORMATION CONTACT. Finally, you may hand-deliver comments to the Fish and Wildlife Service office in ADDRESSES.

Before including your address, telephone number, email address, or other personal identifying information in your comments, you should be aware that your entire comment—including your personal identifying information—may be made publicly available at any time. While you can ask us in your comments to withhold your personal identifying information from public review, we cannot guarantee that we will be able to do so.

Permit Applications

Permit Application Number: TE 83011B-0

Applicant: Prescott Weldon, Bristol, Virginia

The applicant requests a permit to take (enter hibernacula or maternity roost caves; capture with mist-nets, harp traps, or by hand; collect biometric data, tissue, and/or hair; band; and radio-tag) gray bats (Myotis grisescens), Indiana bats (Myotis sodalis), northern long-eared bats (Myotis septentrionalis), and Virginia big-eared bats (Corynorhinus townsendii virginianus), for presence/absence surveys, population monitoring, and research purposes throughout these species' ranges.

Permit Application Number: TE 83013B-0

Applicant: Kathleen O'Connor, Syracuse, New York

The applicant requests a permit to take (enter hibernacula or maternity roost caves; capture with mist-nets, harp traps, or by hand; collect biometric data, tissue, and/or hair; band; and radio-tag) Indiana bats and northern long-eared bats for presence/absence surveys, population monitoring, and research purposes throughout these species' ranges.

Permit Application Number: TE 53149B-1

Applicant: Hans Otto, Omaha, Nebraska

The applicant requests to amend their permit to take (capture with mist-net and harp trap, handle, band, and radio tag) Indiana bat, northern long-eared bat, gray bat, Ozark big-eared bat (Corynorhinus townsendii ingens), and Virginia big-eared bat throughout the species' ranges for conducting presence/absence surveys, studies to document habitat use, and population monitoring. The applicant requests additional authorizations to take (capture with mist-net, harp trap, and hand nets; handle; measure; collect hair samples, fecal material, and pollen samples; take wing biopsy tissue samples; band, radio tag, light tag, and pit tag) the lesser long-nosed bat (Leptonycteris curasoae yerbabuenae) for conducting presence/absence surveys, studies to document habitat use, and population monitoring in Arizona. The applicant also requests to take (capture with live traps, handle, and take measurements), the New Mexico jumping mouse (Zapus hudsonius luteus) for conducting presence/absence surveys, studies to document habitat use, and population monitoring in Arizona, Colorado, and New Mexico.

Permit Application Number: TE 206872-7

Applicant: Joy O'Keefe, Terre Haute, Indiana

The applicant requests a permit to take (enter hibernacula or maternity roost caves; capture with mist-nets and harp traps; collect biometric data, tissue, and/or hair; band; and radio-tag) gray bats, Indiana bats, northern long-eared bats, and Virginia big-eared bats for presence/absence surveys, population monitoring, and research purposes throughout these species' ranges.

Permit Application Number: TE 83000B-0

Applicant: Jason Weese, Midway, Kentucky

The applicant requests a permit to take (enter hibernacula or maternity roost caves; capture with mist-nets and harp traps; collect biometric data, tissue, and/or hair; band; and radio-tag) gray bats, Indiana bats, northern long-eared bats, and Virginia big-eared bats for presence/absence surveys, population monitoring, and research purposes throughout the Commonwealth of Kentucky.

Permit Application Number: TE 12392A-2

Applicant: Institute for Marine Mammal Studies, Gulfport, Mississippi

The applicant requests renewal of their permit to continue flipper-tagging and attaching Passive Integrated Transponders (PIT) tags to Kemps ridley (Lepidochelys kempii), hawksbill (Eretmochelys imbricata), leatherback (Dermochelys coriacea), green (Chelonia mydas), loggerhead (Caretta caretta), and olive ridley (Lepidochelys olivacea) sea turtles prior to release following veterinary treatment and rehabilitation at their facility.

Permit Application Number: TE 48579B-1

Applicant: Ecological Solutions, Inc., Roswell, Georgia

The applicant requests an amendment of their current permit, which authorizes the following activities in the State of Georgia alone: Take (enter hibernacula or maternity roost caves, salvage dead bats, capture with mist nets or harp traps, handle, identify, collect hair samples, band, radio-tag, light-tag, and wing-punch) Indiana bats, gray bats, and northern long-eared bats while conducting presence/absence surveys, studies to document habitat use, and population monitoring. The applicant has requested authorization to swab the above-listed bats for white-nose syndrome studies and to conduct all activities in Alabama, North Carolina, South Carolina, and Tennessee, in addition to Georgia.

Permit Application Number: TE 37661B-1

Applicant: Deep South Eco Group, Morton, Mississippi

The applicant requests an amendment of their current permit, which authorizes the following activities in the states of Louisiana and Mississippi: Take (capture with mist nets, handle, identify, and release) Indiana bats and northern long-eared bats for the purpose of conducting presence/absence surveys. The applicant has requested authorization to conduct the above-listed activities in the State of Arkansas as well.

Permit Application Number: TE 88778B-0

Applicant: John Lamb, Arnold Air Force Base, Tennessee

The applicant requests a permit to take (enter hibernacula or maternity roost caves; capture with mist-nets, with harp traps, or by hand; collect biometric data, tissue, and/or hair; band; and radio-tag) gray bats, Indiana bats, northern long-eared bats, and Virginia big-eared bats, for presence/absence surveys, population monitoring, and research purposes throughout the State of Tennessee.

Permit Application Number: TE 88797B-0

Applicant: Amber Nolder, Luthersburg, Pennsylvania

The applicant requests a permit to take (enter hibernacula or maternity roost caves; capture with mist-nets or harp traps; collect biometric data, tissue, and/or hair; band; and radio-tag) Indiana bats and northern long-eared bats, for presence/absence surveys, population monitoring, and research purposes throughout these species' ranges.

Permit Application Number: TE 88809B-0

Applicant: Ray Eaton, Berea, Kentucky

The applicant requests a permit to take (capture with mist-net and harp trap; handle; band; and radio tag) Indiana bat, northern long-eared bat, gray bat, Ozark big-eared bat, and Virginia big-eared bat throughout the species' ranges for conducting presence/absence surveys, studies to document habitat use, and population monitoring. The applicant requests additional authorizations to take (capture with mist-net, harp trap, and hand nets; handle; measure; collect hair samples, fecal material, and pollen samples; take wing biopsy tissue samples; and band, radio tag, light tag, and pit tag) the lesser long-nosed bat (Leptonycteris curasoae yerbabuenae) for conducting presence/absence surveys, studies to document habitat use, and population monitoring in Arizona, New Mexico, and Texas.

Permit Application Number: TE 88811B-0

Applicant: James Thacker, Tennessee Tech University, Cookeville, Tenneessee

The applicant requests a permit to take (reduce to possession) seeds of the Short's bladderpod (Physaria globosa), an endangered plant, for growth, fecundity, germination, seed viability, and ecological relationship studies in the State of Tennessee.

Permit Application Number: TE 88823-B

Applicant: Brian Schaetz, Raleigh, North Carolina

The applicant requests a permit to take (enter hibernacula or maternity roost caves; capture with mist-nets or harp traps; collect biometric data, tissue, and/or hair; band; and radio-tag) gray bats, Indiana bats, and northern long-eared bats, for presence/absence surveys, population monitoring, and research purposes in the States of Alabama, Georgia, North Carolina, and South Carolina.

Permit Application Number: TE 88817B-0

Applicant: Archer Larned, University of Maryland Baltimore County

The applicant requests a permit to take (capture with mist-nets, band, song playback experiments) the endangered Florida grasshopper sparrow (Ammodramus savannarum floridanus) for a multi-part behaviorial ecology study in the State of Florida.

Permit Application Number: TE 125620-4

Applicant: Brian Roh, Burns & McDonnel Environmental Consulting, Kansas City, Missouri

The applicant requests an amendment to their permit to take (capture, handle, release) the federally endangered American burying beetle (Nicrophorus americanus) for the purpose of conducting presence/absence surveys in the States of Arkansas, Kansas, Nebraska, Oklahoma, and South Dakota.

Permit Application Number: TE 91373A-3

Applicant: Jonathan Miller, Brundidge, Alabama

The applicant requests to amend their current permit to take (capture, identify, release) additional species of federally listed mussels for the purpose of conducting presence/absence surveys in the States of Alabama, Florida, Georgia, Mississippi, and Louisiana.

Permit Application Number: TE 91366A-3

Applicant: Paul Stewart, Troy, Alabama

The applicant requests to amend their current permit to take (capture, identify, release) additional species of federally listed mussels for the purpose of conducting presence/absence surveys in the States of Alabama, Florida, Georgia, Mississippi, and Louisiana.

Permit Application Number: TE 54578B-1

Applicant: Mary Frazer, Raleigh, North Carolina

The applicant requests a permit to take (capture with mist-net and harp trap, handle, band, and radio tag) Indiana bat, northern long-eared bat, gray bat, and Virginia big-eared bat throughout the species' ranges for conducting presence/absence surveys, studies to document habitat use, and population monitoring.

Permit Application Number: TE 63633A-3

Applicant: Biodiversity Research Institute, Portland, Maine

The applicant requests to amend their current permit to take (capture with mist nets, handle, identify, and release) Indiana bats and northern long-eared bats for the purpose of conducting presence/absence surveys, population monitoring, and research purposes throughout the species' range.

Permit Application Number: TE 13844A-3

Applicant: Tony Miller, Lexington, Kentucky

The applicant requests to amend their permit to take (enter hibernacula or maternity roost caves; capture with mist-nets and harp traps; collect biometric data, tissue, and/or hair; band; and radio-tag) gray bats, Indiana bats, northern long-eared bats, and Virginia big-eared bats for presence/absence surveys, population monitoring, and research purposes throughout the species' range.

Permit Application Number: TE 91733B-0

Applicant: Joshua Adams, Lexington, Kentucky

The applicant requests a permit to take (capture with mist-net and harp trap, handle, band, and radio tag) Indiana bat, northern long-eared bat, gray bat, Ozark big-eared bat, and Virginia big-eared bat throughout the species' ranges for conducting presence/absence surveys, studies to document habitat use, and population monitoring. The applicant requests additional authorizations to take (capture with electrofishing and seining) the blackside dace (Chrosomus cumberlandensis) and the Kentucky arrow darter (Etheostoma spilotum) for conducting presence/absence surveys, studies to document habitat use, and population monitoring in Kentucky and Tennessee.

Permit Application Number: TE 91755B-0

Applicant: Nathan Clink, Frankfort, Kentucky

The applicant requests a permit to take (capture, identify, and release) several species of federally listed mussels for the purpose of conducting presence/absence surveys in the Commonwealth of Kentucky.

Dated: March 28, 2016.
Franklin J. Arnold III,
Acting Assistant Regional Director, Ecological Services, Southeast Region.

[FR Doc. 2016-07390 Filed 3-31-16; 8:45 am]

BILLING CODE 4310-55-P